DEPARTMENT OF AGRICULTURE

Agricultural Marketing Service

7 CFR Part 1150

Dairy Promotion Program

CFR Correction

In Title 7 of the Code of Federal Regulations, Parts 1000 to 1199, revised as of January 1, 2015, on page 204, in § 1150.153, in paragraph (c)(2)(i), remove the term “State or regional”.

[FR Doc. 2015-33018 Filed 12-30-15; 8:45 am]

BILLING CODE 1505-01-D